DEPARTMENT OF TRANSPORTATION

Federal Aviation Administration

Public Notice for Waiver of Aeronautical Land Use Assurance Centennial Airport, Centennial, Colorado

AGENCY: Federal Aviation Administration, (FAA), DOT.

ACTION: Notice of request to waive aeronautical land use assurance.

SUMMARY: The FAA proposes to rule and invite public comment on a proposal from the Centennial Airport, Executive Director to change a portion of the airport from aeronautical use to non-aeronautical use at Centennial Airport, Englewood, Colorado. The proposal involves a parcel of airport property on the Northeast side of the airfield.

DATES: Comments are due within 30 days of the date of the publication of this notice in the Federal Register. Emailed comments can be provided to Mr. Michael Matz, Project Manager/Compliance Specialist, Denver Airports District Office, michael.b.matz@faa.gov, (303) 342-1251.

FOR FURTHER INFORMATION CONTACT: Mr. Michael Fronapfel, Executive Director, Centennial Airport, 7565 South Peoria Street, Unit D9, Englewood, CO 80112, mfronapfel@centennialairport.com, (303) 790-0598; or Michael Matz, Project Manager/Compliance Specialist, Denver Airports District Office, 26805 E 68th Ave., Suite 224, Denver, CO 80249, michael.b.matz@faa.gov, (303) 342-1251. Documents reflecting this FAA action may be reviewed at the above locations.

SUPPLEMENTARY INFORMATION: The FAA invites public comment on the request to change a portion of the airport from aeronautical use to non-aeronautical use under the provisions of Title 49, U.S.C. 47153(c), and 47107(h)(2). The proposal consists of 15.949 acres located North of S Peoria St. near the intersection of S Peoria St. and Broncos Pkwy. The land is currently identified as Aeronautical Use on the Airport Layout Plan (ALP). There is an existing FAA Flight Service Station bordering this area that will not be part of the release request. This section of Parcel 1 is separated from the majority of airport property by S Peoria St. The FAA concurs that the parcel is no longer needed for airport purposes. The proposed use of this property is compatible with existing airport operations in accordance with FAA's Policy and Procedures Concerning the Use of Airport Revenue, as published in the Federal Register on February 16, 1999.

Issued in Denver, Colorado, on January 4, 2023.
Marc Miller,
Acting Manager, Denver Airports District Office.

[FR Doc. 2023-00234 Filed 1-9-23; 8:45 am]

BILLING CODE 4910-13-P